DEPARTMENT OF AGRICULTURE

Agricultural Marketing Service

7 CFR Part 966

[Docket No. FV03-966-03 C]

Tomatoes Grown in Florida; Decreased Assessment Rate; Correction

AGENCY: Agricultural Marketing Service, USDA.

ACTION: Correcting amendment.

SUMMARY: The Agricultural Marketing Service (AMS) published an interim final rule in the Federal Register on November 9, 2001 (66 FR 56599), which decreased the assessment rate for tomatoes grown in Florida. The interim final rule fixed the assessment rate at $0.20 per 25-pound container or equivalent of assessable tomatoes for the 2001-02 and subsequent fiscal periods. The rate should have been fixed at $0.02 per 25-pound container or equivalent. This document corrects the assessment rate.

EFFECTIVE DATE: March 31, 2003.

FOR FURTHER INFORMATION CONTACT: Doris Jamieson, Marketing Specialist, Southeast Marketing Field Office, Marketing Order Administration Branch, Fruit and Vegetable Programs, AMS, USDA, 799 Overlook Drive, Suite A, Winter Haven, Florida 33884-1671; telephone: (863) 324-3375; Fax: (863) 325-8793; E-Mail: Doris.Jamieson@usda.gov; or George Kelhart, Technical Advisor, Marketing Order Administration Branch, Fruit and Vegetable Programs, AMS, USDA, 1400 Independence Ave, SW., STOP 0237, Washington, DC 20250-0237, telephone: (202) 720-2491, Fax: (202) 720-8938; E-Mail: George.Kelhart@usda.gov.

SUPPLEMENTARY INFORMATION:

Background

AMS published an interim final rule in the Federal Register on November 9, 2001 (66 FR 56599), decreasing the assessment rate for tomatoes grown in Florida [7 CFR part 966]. The interim final rule was subsequently finalized without change in a document published on March 13, 2002 (67 FR 11213).

Need for Correction

As published, the assessment rate was incorrectly identified as $0.20 per 25-pound container or equivalent. This correction document replaces the incorrect assessment rate with the correct assessment rate of $0.02 per 25-pound container or equivalent for Florida tomatoes.

List of Subjects in 7 CFR Part 966

Marketing agreements, Reporting and recordkeeping requirements, Tomatoes.

Accordingly, 7 CFR part 966 is corrected by making the following amendment:

PART 966—TOMATOES GROWN IN FLORIDA

1. The authority citation for 7 CFR part 966 continues to read as follows:

Authority: 7 U.S.C. 601-674.

§ 966.234 [Corrected]

2. In § 966.234, the figure “$0.20” is revised to “$0.02”.

Dated: March 24, 2003.
A.J. Yates,
Administrator, Agricultural Marketing Service.

[FR Doc. 03-7634 Filed 3-28-03; 8:45 am]

BILLING CODE 3410-02-P